ENVIRONMENTAL PROTECTION AGENCY

[EPA-HQ-OAR-2020-0312; FRL-7887-05-OAR]

Release of Planning Update in the Review of the Lead National Ambient Air Quality Standards

AGENCY: Environmental Protection Agency (EPA).

ACTION: Notice of availability.

SUMMARY: On or about November 8, 2024, the Environmental Protection Agency (EPA) is making available to the public an update on two aspects of the approach for the quantitative human exposure and health risk analyses, Update on Two Aspects of the Analytical Approach (Update). This Update provides additional detail regarding aspects of the analysis plans described in Volume 3 of the Integrated Review Plan for the Lead National Ambient Air Quality Standards (IRP). The national ambient air quality standards (NAAQS) for lead (Pb) are set to protect the public health and the public welfare from Pb in ambient air. Volume 3 of the IRP is the planning document for quantitative analyses to be considered in the policy assessment (PA), including human exposure and health risk analyses.

DATES: Comments must be received on or before December 9, 2024.

ADDRESSES: You may send comments on this document, identified by Docket ID No. EPA-HQ-OAR-2020-0312, by any of the following methods:

• Federal eRulemaking Portal: https://www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. The document described here will be available on the EPA's website at https://www.epa.gov/naaqs/lead-pb-air-quality-standards. The document will be accessible under “Planning Documents” for the current review.

FOR FURTHER INFORMATION CONTACT: Dr. Deirdre L. Murphy, Office of Air Quality Planning and Standards, U.S. Environmental Protection Agency, Mail Code: C504-06, 109 T.W. Alexander Drive, P.O. Box 12055, Research Triangle Park, NC 27711; telephone number: 919-541-0729; or email: murphy.deirdre@epa.gov.

SUPPLEMENTARY INFORMATION:

I. General Information

Written Comments

Submit your comments, identified by Docket ID No. EPA-HQ-OAR-2020-0312, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. Information About the Documents

Two sections of the Clean Air Act (CAA or the Act) govern the establishment and revision of the NAAQS. Section 108 directs the Administrator to identify and list certain air pollutants and then issue “air quality criteria” for those pollutants. The air quality criteria are to “accurately reflect the latest scientific knowledge useful in indicating the kind and extent of all identifiable effects on public health or welfare which may be expected from the presence of such pollutant in the ambient air . . .” (CAA section 108(a)(2)). Under section 109 of the Act, the EPA is then to establish primary (health-based) and secondary (welfare-based) NAAQS for each pollutant for which the EPA has issued air quality criteria. Section 109(d)(1) of the Act requires periodic review and, if appropriate, revision of existing air quality criteria. Revised air quality criteria are to reflect advances in scientific knowledge on the effects of the pollutant on public health and welfare. Under the same provision, the EPA is also to periodically review and, if appropriate, revise the NAAQS, based on the revised air quality criteria.

The Act additionally requires appointment of an independent scientific review committee that is to periodically review the existing air quality criteria and NAAQS and to recommend any new standards and revisions of existing criteria and standards as may be appropriate (CAA section 109(d)(2)(A)-(B)). Since the early 1980s, the requirement for an independent scientific review committee has been fulfilled by the Clean Air Scientific Advisory Committee (CASAC).

Presently the EPA is reviewing the air quality criteria and NAAQS for Pb.¹ The document announced in this notice has been developed as a follow-up to Volume 3 of the IRP. Like the IRP, this Update has been prepared by the EPA's Office of Air Quality Planning and Standards, within the Office of Air and Radiation. This document will be available on the EPA's website at https://www.epa.gov/naaqs/lead-pb-air-quality-standards, accessible under “Planning Documents” for the current Pb NAAQS review.

¹ The EPA's call for information for this review was issued on July 7, 2020 (85 FR 40641) and the Integrated Science Assessment for Lead was released on January 31, 2024 (89 FR 8425, February 7, 2024).

The IRP for the current review of the lead NAAQS is comprised of three volumes. Volume 3 is the planning document for quantitative analyses to be considered in the policy assessment (PA), including exposure and risk analyses. Volume 3 was the subject of a consultation with the CASAC Lead Panel on June 14, 2023, and is available on the EPA's website.² The Update provides additional updated detail on two aspects of the approach planned for quantitative human exposure and health risk analyses being performed in this NAAQS review. Comments on the Update should be submitted to the docket, as described above, by December 9, 2024. A separate Federal Register notice provided details about the CASAC Lead Panel consultation meeting and the process for participation in the consultation meeting on this document (89 FR 86801, October 31, 2024). The EPA will consider the consultation comments from the CASAC Lead Panel and public comments on this Update in its preparation of quantitative exposure and risk analyses for the PA. This document does not represent and should not be construed to represent any final EPA policy, viewpoint, or determination.

² Volume 3 of the IRP is already available on the EPA website, along volumes 1 and 2. Volume 1 of the IRP provides background or contextual and historical material for this NAAQS review. All three volumes are available at https://www.epa.gov/naaqs/lead-pb-air-quality-standards, accessible under “Planning Documents” for the current review.

Erika N. Sasser,
Director, Health and Environmental Impacts Division.

[FR Doc. 2024-26125 Filed 11-7-24; 8:45 am]

BILLING CODE 6560-50-P